DEPARTMENT OF AGRICULTURE

Animal and Plant Health Inspection Service

9 CFR Part 94

[Docket No. 00-079-1]

Certification of Beef From Argentina

AGENCY: Animal and Plant Health Inspection Service.

ACTION: Interim rule and request for comments.

SUMMARY: We are amending the regulations governing the importation of fresh (chilled or frozen) beef from Argentina by adding a requirement that Argentina certify that the beef does not come from animals that have ever been in specified areas along Argentina's borders with Paraguay, Brazil, Bolivia, and Uruguay. We are taking this action as an emergency measure to protect the livestock of the United States from foot-and-mouth disease.

DATES: This interim rule was effective July 15, 2000. We invite you to comment on this docket. We will consider all comments that we receive by February 27, 2001.

ADDRESSES: Please send four copies of your comment (an original and three copies) to: Docket No. 00-079-1, Regulatory Analysis and Development, PPD, APHIS, Suite 3C03, 4700 River Road, Unit 118, Riverdale, MD 20737-1238.

Please state that your comment refers to Docket No. 00-079-1. You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Masoud Malik, Senior Staff Veterinarian, Technical Trade Services, National Center for Import and Export, VS, APHIS, 4700 River Road Unit 38, Riverdale, MD 20737-1231; (301) 734-8364.

SUPPLEMENTARY INFORMATION:

Background

The regulations in 9 CFR part 94 (referred to below as the regulations) govern the importation of certain animals and animal products into the United States in order to prevent the introduction of various animal diseases, including rinderpest, foot-and-mouth disease (FMD), African swine fever, hog cholera, and swine vesicular disease. These are dangerous and destructive diseases of ruminants and swine. Section 94.1 of the regulations lists regions of the world that are declared free of rinderpest or free of both rinderpest and FMD. Rinderpest or FMD exists in all regions of the world not listed. Argentina is not listed in § 94.1; however, § 94.1(a)(1) references § 94.21, which provides for the importation of fresh (chilled or frozen) beef from Argentina under certain conditions. Section 94.4 provides for the importation of cured or cooked meat from regions where rinderpest or FMD exists, except for cured or cooked beef from Argentina that meets the requirements for the importation of fresh (chilled or frozen) beef as provided in § 94.21.

Prior to the effective date of this interim rule, § 94.21 allowed the importation of fresh (chilled or frozen) beef from Argentina if, among other things, FMD had not been diagnosed in Argentina within the previous 12 months. In addition, beef from Argentina that was cured or cooked other than in accordance with the provisions of § 94.4 was allowed importation into the United States if the beef met the import conditions for fresh (chilled or frozen) beef as provided in § 94.21. However, on or about July 22, 2000, cattle from a neighboring country were illegally imported into Argentina, and on August 16, 2000, Argentina confirmed that one of the imported animals was infected with FMD.

Before August 2000, the last reported case of FMD in Argentina was in April 1994. Argentina stopped vaccinating cattle for FMD in April 1999.

In response to the confirmation of the FMD diagnosis in August 2000, Argentina issued a voluntary ban on beef exports and initiated other measures to control the spread of the disease. Additionally, the United States Department of Agriculture issued a temporary hold on the importation of all beef from Argentina that had been authorized to be imported under § 94.21. During late September and early October 2000, a tripartite delegation consisting of representatives from the United States, Canada, and Mexico visited Argentina to assess the FMD situation. After extensive inspection and evaluation, the tripartite delegation concluded that Servicio Nacional de Sanidad y Calidad Agroalimentaria (SENASA) had acted promptly and effectively to eliminate the FMD infection. A copy of the site visit report is available for review in our reading room (see ADDRESSES for location and hours of operation) and at http://www.aphis.usda.gov/vs/reg-request.html.

Further, Veterinary Services staff members of the Animal and Plant Health Inspection Service (APHIS) produced a risk analysis document to explore the potential FMD risks associated with importing beef from Argentina under the limitations set in § 94.21. This report concluded that the August 2000 outbreak of FMD, which resulted from the illegal movement of animals into Argentina from a bordering country, had been quickly detected and contained. This report also noted that there is no evidence that Argentina is not in compliance with any of the requirements listed at § 94.21 and that Argentina is developing additional safeguards against the risks associated with the illegal movement of animals into Argentina from bordering countries. A copy of the risk analysis is available for review in our reading room (see ADDRESSES for location and hours of operation) and at http://www.aphis.usda.gov/vs/reg-request.html.

In consideration of SENASA's prompt action and the conclusions of the risk analysis, we plan to allow beef imports to resume from Argentina under § 94.21, with the following additional provisions contained in this interim rule. This interim rule requires an authorized veterinary official of the Government of Argentina to certify that the beef being exported to the United States is not from an animal that has ever been in specified areas along Argentina's borders with Paraguay, Brazil, Bolivia, and Uruguay. These areas are described in a new paragraph (n) of § 94.21, and maps showing the border areas may be viewed at http://www.aphis.usda.gov/vs/reg-request.html. We believe this additional measure will ensure that beef imported from Argentina under § 94.21 continues to present a negligible risk of being contaminated with the FMD virus.

This interim rule also revises current § 94.21(l) to clarify that an authorized veterinary official must certify on the meat inspection certificate accompanying the meat that all provisions of § 94.21 have been met. Currently, § 94.21(l) specifies only “an authorized official.” However, we believe it is necessary for a veterinarian to certify the provisions of § 94.21 have been met.

Although we are adding a requirement that an authorized veterinary official of the Government of Argentina certify that fresh (chilled or frozen) beef exported to the United States is not from areas designated in § 94.21(n), we recognize that SENASA responded immediately to the detection of the disease by imposing restrictions on the movement of animals from the affected areas and by initiating other measures to eradicate the disease. At the time of publication of this interim rule, it appears that the outbreak is well controlled. Because of SENASA's efforts to ensure that FMD does not spread beyond the previously affected areas, we intend to reassess the situation in accordance with the standards of the Office International des Epizooties (OIE). As part of that reassessment process, we will consider all comments received on this interim rule. This future reassessment will determine whether it is necessary to revise the areas designated in § 94.21(n), and, additionally, whether it is necessary to continue requiring an authorized veterinary official of the Government of Argentina to certify that fresh (chilled or frozen) beef exported to the United States is not from areas designated in § 94.21(n), or whether we can remove this additional certification requirement.

Emergency Action

This rulemaking is necessary on an emergency basis to prevent the introduction of FMD into the United States. Under these circumstances, the Administrator has determined that prior notice and opportunity for public comment are contrary to the public interest and that there is good cause under 5 U.S.C. 553 for making this rule effective less than 30 days after publication in the Federal Register. We are making this action effective retroactively to July 15, 2000, because we believe that an effective date that is 1 week prior to the reported illegal importation of cattle will ensure that fresh (chilled or frozen) beef imported into the United States from Argentina is not from animals that were exposed to FMD. The effective date is necessary to prevent the introduction of FMD into the United States.

We will consider comments that are received within 60 days of publication of this rule in the Federal Register. After the comment period closes, we will publish another document in the Federal Register. This document will include a discussion of any comments we receive and any amendments we are making to the rule as a result of the comments.

Executive Order 12866 and Regulatory Flexibility Act

This rule has been reviewed under Executive Order 12866. For this action, the Office of Management and Budget has waived its review process required by Executive Order 12866.

We are amending the regulations governing the importation of fresh (chilled or frozen) beef from Argentina by adding a requirement that Argentina certify that the beef does not come from animals that have ever been in specified areas along Argentina's borders with Paraguay, Brazil, and Bolivia. We are taking this action as an emergency measure to protect the livestock of the United States from foot-and-mouth disease.

This emergency situation makes timely compliance with section 604 of the Regulatory Flexibility Act (5 U.S.C. 601 et seq.) impracticable. We are currently assessing the potential economic effects of this action on small entities. Based on that assessment, we will either certify that the rule will not have a significant economic impact on a substantial number of small entities or publish a regulatory flexibility analysis.

Executive Order 12988

This rule has been reviewed under Executive Order 12988, Civil Justice Reform. This rule: (1) Preempts all State and local laws and regulations that are inconsistent with this rule; (2) has retroactive effect to July 15, 2000; and (3) does not require administrative proceedings before parties may file suit in court challenging this rule.

Paperwork Reduction Act

This interim rule contains no information collection or recordkeeping requirements under the Paperwork Reduction Act of 1995 (44 U.S.C. 3501 et seq.).

List of Subjects in 9 CFR Part 94

Animal diseases, Imports, Livestock, Meat and meat products, Milk, Poultry and poultry products, Reporting and recordkeeping requirements.

Accordingly, we are amending 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 continues to read as follows:

Authority: Title IV, Pub. L. 106-224, 114 Stat. 438, 7 U.S.C. 7701-7772; 7 U.S.C. 450; 19 U.S.C. 1306; 21 U.S.C. 111, 114a, 134a, 134b, 134c, 134f, 136, and 136a; 31 U.S.C. 9701; 42 U.S.C. 4331 and 4332; 7 CFR 2.22, 2.80, and 371.4.

2. Section 94.21 is amended by revising paragraphs (a) and (l) and by adding a new paragraph (n) to read as follows:

§ 94.21 Restrictions on the importation of beef from Argentina.

* * * * *

(a) The meat is beef from bovines that have been born, raised, and slaughtered in Argentina, but is not from any animal that has ever been in an area of Argentina listed in paragraph (n) of this section.

* * * * *

(l) An authorized veterinary official of the Government of Argentina certifies on the foreign meat inspection certificate that all of the conditions in this section have been met.

* * * * *

(n) Beef may not be imported under this section if it comes from an animal that has ever been in any of the following areas:

(1) Province of Corrientes. (i) That northern portion of the Province bounded by a line drawn as follows: Beginning at the intersection of National Route 12 and the Corrientes/Misiones Provincial line; then west along National Route 12 to Provincial Route 9; then northwest along Provincial Route 9 to the town of Paso de La Patria; then north to the Paraná River and the international border with the Republic of Paraguay, then east along the international border with the Republic of Paraguay, including the Paraná River, to the Itaembé stream; then south along the Itaembé stream and the Corrientes/Misiones Provincial line to National Route 12; and

(ii) That eastern portion of the Province bounded by a line drawn as follows: Beginning at the intersection of Provincial Route 94 and the Chirimai stream; then southwest along Provincial Route 94 to National Route 14 at the town of Santo Tomé; then southwest along National Route 14 to Provincial Route 47; then southwest along Provincial Route 47 to Provincial Route 129; then southwest along Provincial Route 129 to Provincial Route 33; then south along Provincial Route 33 to National Route 14; then south along National Route 14 to the town of Mocoretá; then southeast along the Riacho Mocoretá to the international border with the Republic of Brazil at the Uruguay River; then northeast along the international border with the Republic of Brazil and the Uruguay River to the Chirimai stream; then northwest along the Chirimai stream to Provincial Route 94.

(2) Province of Misiones. That portion of the Province bounded by a line drawn as follows: Beginning at the intersection of National Route 12 and the Itaembé Mini stream; then northeast along National Route 12 to Provincial Route 101; then east along Provincial Route 101 to National Route 14; then south along National Route 14 to the Mandubí stream; then southwest along the Mandubí stream to the Toro stream; then southwest along the Toro stream to Provincial Route 22; then southwest along Provincial Route 22 to the Liso stream; then southwest along the Liso stream to the Yaboti Mini stream; then south along the Yaboti Mini stream to Provincial Coastal Route 2; then south along Provincial Coastal Route 2 to the Chimirai stream; then southeast along the Chimirai stream to the international border with the Republic of Brazil and the Uruguay River; then northeast and north along the international border with the Republic of Brazil, including the Uruguay, the Pepiri Guazú, San Antonio, and Iguazú Rivers, to the international border with the Republic of Paraguay and the Paraguay River; then south and southwest along the international border with the Republic of Paraguay and the Paraguay River to the Itaembé Mini stream and Corrientes/Misiones Provincial line; then south along the Itaembé Mini stream and Corrientes/Misiones Provincial line to National Route 12.

(3) Province of Chaco. That portion of the Department of Bermejo bounded by a line drawn as follows: Southern limit: Riacho Guaycurú from the outlet of Riacho Ancho to Provincial Route No. 1. Western limit: Route No. 1 from its intersection with Riacho Guaycurú to its intersection with Provincial Route No. 3. Eastern limit: Paraguay River from Puerto Bermejo to the outlet of Riacho Guaycurú and Riacho Ancho, including Cerrito Island. Northern limit: Provincial Route No. 3 from its intersection with Provincial Route No. 1 to the Paraguay River (Pueblo Viejo de Puerto Bermejo).

(4) Province of Formosa. That portion of the Province bounded by a line drawn as follows: Beginning in the area where Provincial Route 9 meets the Bermejo River west of Colonia Cano, at the point where the local road to Paraje San Antonio begins; then north along the local road to Paraje San Antonio, past Paraje San Antonio to the intersection of the local road and the Mbiguá-Marové River; then north along the Mbiguá-Marové River to the town of Payaguá; then north along the Ramirez River to the Herradura Lake; then north along National Route 11 to the City of Clorinda; then northwest along the Porteño River to its intersection with Provincial Route 86; then northwest along Provincial Route 86 to the town of El Solitario; then northwest along the edge of the La Estrella wetland to the Pantalón Complex canal and the Formosa/Salta Provincial line; then north along the Formosa/Salta Provincial line to the international border with the Republic of Paraguay and the Pilcomayo River; then southeast and south along the international border with the Republic of Paraguay, including the Pilcomayo and Paraguay Rivers, to the Bermejo River; then northwest along the Bermejo River to the point of beginning on Provincial Route 9.

(5) Province of Salta. That portion of the Province bounded by a line drawn as follows: Beginning at the intersection of the Formosa/Salta Provincial line and Provincial Route 54; then west along Provincial Route 54 to National Route 34; then south along National Route 34 to Provincial Route 50; then northwest along Provincial Route 50 to the Iruya River; then west and north along the Iruya River to Nazareno; then north along the local road from Nazareno to Provincial Route 7 in Santa Victoria Oeste; then west along Provincial Route 7; then west along Provincial Route 7 to the Salta/Jujuy Provincial border; then north along the Salta/Jujuy Provincial border to the international border with the Republic of Bolivia; then east along the international borders with the Republic of Bolivia (including the Bermejo, Grande de Tarija, and Itaú Rivers) and the Republic of Paraguay (including the Pilcomaya River) to the Formosa/Salta Provincial line; then south along the Formosa/Salta Provincial line to Provincial Route 54.

(6) Province of Jujuy. That portion of the Province bounded by a line drawn as follows: Beginning at the intersection of the Salta/Jujuy Provincial border and Provincial Route 5; then west along Provincial Route 5 to Santa Catalina and Provincial Route 65; then south along Provincial Route 65 to Timón Cruz; then west along the San Juan de Mayo River to the Granadas River; then southwest along the Granadas River to Pululos Lake; then west along a mountain road to Cajal Lake; then southwest from Cajal Lake to the Zapaleri River; then southwest along the Zapaleri River to the border of the Province of Jujuy and the Republic of Chile; then northwest along the border of the Province of Jujuy and the Republic of Chile to the international border with the Republic of Bolivia; then northeast, southeast, and east along the international border of Bolivia to the Salta/Jujuy Provincial border; then south along the Salta/Jujuy Provincial border to Provincial Route 5.

Done in Washington, DC, this 22nd day of December 2000.
Craig A. Reed,
Administrator, Animal and Plant Health Inspection Service.

[FR Doc. 00-33400 Filed 12-27-00; 10:55 am]

BILLING CODE 3410-34-P